DEPARTMENT OF AGRICULTURE

Forest Service

Siskiyou County Resource Advisory Committee

AGENCY: Forest Service, USDA.

ACTION: Notice of meeting.

SUMMARY: The Siskiyou County Resource Advisory Committee (RAC) will host a workshop for the public in local communities to provide information and expertise to those who may want to submit project proposals to the RAC. Following the time allowed on the agenda for the workshop, the RAC will meet to conduct routine business consistent with the Secure Rural Schools and Community Self-Determination Act.

DATES: April 20, 2009.

ADDRESSES: The meeting will be held at the Holiday Inn Express Conference Center, 707 Montague Road, Yreka, CA 96097. All other Siskiyou County RAC meetings in calendar year 2009 will be held in accordance with Federal Register Vol. 74, No. 29, page 7215, dated February 13, 2009.

FOR FURTHER INFORMATION CONTACT: Davida Carnahan, Forest RAC coordinator, Klamath National Forest, (530) 841-4485 or electronically at dcarnahan@fs.fed.us.

SUPPLEMENTARY INFORMATION: The meeting is open to the public. Public comment opportunity will be provided and individuals will have the opportunity to address the Committee at that time.

Dated: March 18, 2009.
Patrica A. Grantham,
Designated Federal Official.

[FR Doc. E9-6751 Filed 3-25-09; 8:45 am]

BILLING CODE 3410-11-M